DEPARTMENT OF TRANSPORTATION

Federal Railroad Administration

[Docket Number FRA-2014-0022]

Petition for Waiver of Compliance

In accordance with Part 211 of Title 49 Code of Federal Regulations (CFR), this document provides the public notice that by a document dated March 7, 2014, Middletown & Hummelstown Railroad (MIDH) petitioned the Federal Railroad Administration (FRA) for a waiver of compliance from certain provisions of the Federal railroad safety regulations contained at 49 CFR 215.303, Stenciling of restricted cars, and 49 CFR part 224, Reflectorization of Rail Freight Rolling Stock. FRA assigned the petition Docket Number FRA-2014-0022.

The petition relates to operations involving Caboose CNJ 91531 on tracks solely owned by MIDH and on private industrial tracks connected to the main line and/or sidings of MIDH. Although owned by MIDH, the caboose bears its original marks, number, road name (defunct Central Railroad Company of New Jersey), and paint scheme. The caboose, built in May 1942, is used as an operating piece of historic or antiquated equipment. The caboose is in good condition and is undergoing restoration to its original condition. The maximum operating speed for the caboose is 10 mph.

This caboose will be used in two types of services:

MDIH states that, regardless of the type of service performed, the caboose will not be offered for interchange or operated over tracks owned by any other railroad.

In addition, MIDH requested a Special Approval for this caboose to continue in service in accordance with 49 CFR 215.203(c), Restricted cars.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by June 16, 2014 will be considered by FRA before final action is taken. Comments received after that date will be considered as far as practicable.

Anyone is able to search the electronic form of any written communications and comments received into any of our dockets by the name of the individual submitting the comment (or signing the document, if submitted on behalf of an association, business, labor union, etc.). See http://www.regulations.gov/#!privacyNotice for the privacy notice of regulations.gov or interested parties may review DOT's complete Privacy Act Statement in the Federal Register published on April 11, 2000 (65 FR 19477).

Robert C. Lauby,
Associate Administrator for Railroad Safety, Chief Safety Officer.

[FR Doc. 2014-09793 Filed 4-29-14; 8:45 am]

BILLING CODE 4910-06-P